DEPARTMENT OF AGRICULTURE

Food and Nutrition Service

Agency Information Collection Activities: Information Collection for the National School Lunch Program

AGENCY: Food and Nutrition Service (FNS), USDA.

ACTION: Notice.

SUMMARY: In accordance with the Paperwork Reduction Act of 1995, this notice invites the general public and other public agencies to comment on this proposed information collection. This collection is a revision of a currently approved collection that FNS employs to determine public participation in the National School Lunch Program and to obtain, account for, and record information from State and program operators that is necessary to effectively manage the NSLP and ensure compliance with statutory and regulatory Program requirements.

DATES: Written comments must be received on or before July 7, 2023.

ADDRESSES: Comments may be sent to: Jennifer Otey, School Meals Program Monitoring Branch, Program Monitoring and Operational Support Division, Child Nutrition Programs, Food and Nutrition Service, U.S. Department of Agriculture, 1320 Braddock Place, Alexandria, VA 22314. Comments may also be submitted via email to jennifer.otey@usda.gov. Comments will also be accepted through the Federal eRulemaking Portal. Go to http://www.regulations.gov and follow the online instructions for submitting comments electronically.

All responses to this notice will be summarized and included in the request for Office of Management and Budget (OMB) approval. All comments will also become a matter of public record.

FOR FURTHER INFORMATION CONTACT: Requests for additional information or copies of this information collection should be directed to Jennifer Otey at 703-605-3223 or via email to jennifer.otey@usda.gov.

SUPPLEMENTARY INFORMATION: Comments are invited on: (a) whether the proposed collection of information is necessary for the proper performance of the functions of the agency, including whether the information shall have practical utility; (b) the accuracy of the agency's estimate of the burden of the proposed collection of information, including the validity of the methodology and assumptions that were used; (c) ways to enhance the quality, utility, and clarity of the information to be collected; and (d) ways to minimize the burden of the collection of information on those who are to respond, including use of appropriate automated, electronic, mechanical, or other technological collection techniques or other forms of information technology.

Title: 7 CFR part 210, National School Lunch Program.

Form Number: Quarterly Report For School Food Authority Certification (QTR-SFA-CERT).

OMB Control Number: 0584-0006.

Expiration Date: July 31, 2023.

Type of Request: Revision of a currently approved collection.

Abstract: The Richard B. Russell National School Lunch Act (NSLA), as amended, authorizes the National School Lunch Program (NSLP) to safeguard the health and well-being of the nation's children and provide free or reduced-price school lunches to qualified students through subsidies to schools. The United States Department of Agriculture (USDA) provides States with general and special cash assistance and donations of foods to assist schools in serving nutritious lunches to children each school day. Participating schools must serve lunches that are nutritionally adequate and maintain menu and food production records to demonstrate compliance with the meal requirements.

Section 10 of the Child Nutrition Act of 1966 (42 U.S.C. 1779) requires the Secretary of Agriculture to prescribe such regulations as deemed necessary to carry out this Act and the NSLA (42 U.S.C. 1751 et seq.). Pursuant to that provision, the Secretary issued 7 CFR part 210, which sets forth policies and procedures for the administration and operation of the NSLP. The Program is administered at the State and school food authority (SFA)/local education agency (LEA) levels, and operations include the submission of applications and agreements, submission of the number of meals served and claims to be paid, submission of data from required monitoring reviews conducted by the State agency, and maintenance of records. State and local operators of the NSLP are required to meet Federal reporting and accountability requirements and are also required to maintain records that include school food service accounts of revenues and expenditures.

FNS collects program data from the State agencies on forms FNS-10 Report of School Operations, FNS-13 Annual Report of State Revenue Matching, FNS-640 Administrative Review Data Report, FNS-777 Financial Status Report, and FNS-828 School Food Authority Paid Lunch Price Report. These forms are approved under OMB Control Number 0584-0594 Food Program Reporting System (FPRS), which expires July 31, 2023. The reporting burden associated with these reports is covered under OMB Control Number 0584-0594 and is not associated with this information collection. However, the recordkeeping burden for these forms is still maintained in this collection. One form, required under 7 CFR 210.5(d)(2), Quarterly Report for School Food Authority Certification (QTR-SFA-CERT), is included in this present collection but should be included in OMB Control Number 0584-0594. In the next renewal for 0584-0594, this form will be included.

For the Administrative Review, there are many tools, worksheets, checklists, forms, and workbooks that are used by State agencies in this process. State agencies utilize these as worksheets to measure compliance and as data collection instruments. These are included in this ICR.

This information collection is required to administer and operate this program in accordance with the NSLA. All of the reporting and recordkeeping requirements associated with the NSLP are currently approved by the Office of Management and Budget and are in force. Since the last renewal, FNS has adjusted the decimal conversions for the time estimates for some of the information requirements to keep the conversions consistent across its collections. This has resulted in a slight increase of 247 hours to the estimated burden for this collection, from 9,808,454 to 9,808,701 hours. FNS estimates that the estimated number of respondents and responses will remain unchanged from the previous renewal. There are no further changes to this collection due to the pandemic. The pandemic resulted in FNS not being able to collect updated data from State agencies and in FNS not being able to move forward with other rulemaking. Rulemaking in 2023 will impact this collection in the next renewal.

Affected Public: State, Local, and Tribal Government: Respondent groups identified include (1) State agencies; (2) school food authorities/local education agencies; and (3) schools.

Estimated Number of Respondents (Reporting): 115,935 (56 State agencies, 19,019 school food authorities, and 96,860 schools).

Estimated Number of Responses per Respondent (Reporting): 4.31.

Estimated Total Annual Responses: 499,573.

Estimated Reporting time per Response: 1.29.

Estimated Annual Reporting Burden: 643,651.

Estimated Number of Recordkeepers: 115,935 (56 State agencies, 19,019 school food authorities and local educational agencies, and 96,860 schools.).

Estimated Number of Records per Recordkeeper: 406.

Estimated Total Number of Records: 47,100,736.

Estimated Recordkeeping Time per Response: 0.19.

Total Estimated Recordkeeping Burden: 9,112,749.

Affected Public: State, Local and Tribal Government. Respondent groups identified include (1) State agencies and (2) local educational agencies.

Estimated Number of Respondents (Public Notification): 19,075 (56 State agencies and 19,019 local educational agencies).

Estimated Number of Responses per Respondent (Public Notification): 1.66.

Estimated Total Annual Responses: 31,687.

Estimated Time per Response: 1.65.

Estimated Annual Public Notification Burden: 52,301.

Estimated Annual Reporting, Recordkeeping, and Public Notification Burden: 9,808,701.

Current OMB Inventory for Part 210: 9,808,454.

Difference (change in burden with this renewal): 247.

Refer to the table below for estimated total annual burden for each type of respondent.

Affected public | Estimated number of respondents | Number of responses per respondent | Total annual responses | Estimated average hours per response | Estimated total burden (hours)
Reporting
State Agencies | 56 | 232.34 | 13,011 | 27.08 | 352,358
School Food Authorities/Local Education Agencies | 19,019 | 15.397 | 292,842 | 0.928 | 271,882
Schools | 96,860 | 2 | 193,720 | 0.1 | 19,411
Total Estimated Reporting Burden | 115,935 | 4.31 | 499,573 | 1.29 | 643,651
Recordkeeping
State Agencies | 56 | 1,475 | 82,619 | 1.51 | 124,491
School Food Authorities/Local Education Agencies | 19,019 | 21 | 399,399 | 4.33 | 1,731,018
Schools | 96,860 | 481.30 | 46,618,718 | 0.16 | 7,257,240
Total Estimated Recordkeeping Burden | 115,935 | 406 | 47,100,736 | 0.19 | 9,112,749
Public Notification
State Agencies | 56 | 113 | 6,328 | .25 | 1,582
School Food Authorities/Local Education Agencies | 19,019 | 1.33 | 25,359 | 2 | 50,719
Total Estimated Public Notification Burden | 19,075 | 1.66 | 31,687 | 1.65 | 52,301
Total of Reporting, Recordkeeping, and Public Notification
Reporting | 115,935 | 4 | 499,573 | 1.2884029 | 643,651
Recordkeeping | 115,935 | 406 | 47,100,736 | 0.19347361 | 9,112,749
Public Notification | 19,075 | 2 | 31,687 | 1.6505507 | 52,301
Total | 115,935 | 410.85 | 47,631,996 | 0.21 | 9,808,701

Tameka Owens,
Assistant Administrator, Food and Nutrition Service.

[FR Doc. 2023-09710 Filed 5-5-23; 8:45 am]

BILLING CODE 3410-30-P